DEPARTMENT OF COMMERCE

Foreign-Trade Zones Board

[B-69-2017]

Foreign-Trade Zone (FTZ) 52—Suffolk County, New York; Authorization of Production Activity; Estee Lauder Inc.; (Hair Straightening Styling Balm); Melville, New York

On November 2, 2017, Estee Lauder Inc. submitted a notification of proposed production activity to the FTZ Board for its facility within FTZ 52 in Melville, New York.

The notification was processed in accordance with the regulations of the FTZ Board (15 CFR part 400), including notice in the Federal Register inviting public comment (82 FR 54320, November 17, 2017). On March 2, 2018, the applicant was notified of the FTZ Board's decision that no further review of the activity is warranted at this time. The production activity described in the notification was authorized, subject to the FTZ Act and the FTZ Board's regulations, including Section 400.14.

Dated: March 5, 2018.
Andrew McGilvray,
Executive Secretary.

[FR Doc. 2018-04907 Filed 3-9-18; 8:45 am]

BILLING CODE 3510-DS-P